FEDERAL RESERVE SYSTEM

Formations of, Acquisitions by, and Mergers of Bank Holding Companies; Correction

This notice corrects a notice (FR Doc. 2011-25514) published on pages 61359 and 61360 Tuesday, October 4, 2011.

Under the Federal Reserve Bank of San Francisco heading, the entry for Carpenter Fund Manager GP, LLC; Carpenter Fund Management Company, LLC; Carpenter Community BancFund, L.P.; Carpenter Community BancFund—A, L.P.; Carpenter Community BancFund—CA, L.P.; SCJ, Inc.; and CCFW, Inc., all in Irvine, California, is revised to read as follows:

A. Federal Reserve Bank of San Francisco (Kenneth Binning, Vice President, Applications and Enforcement) 101 Market Street, San Francisco, California 94105-1579:

1. Carpenter Fund Manager GP, LLC; Carpenter Fund Management Company, LLC; Carpenter Community BancFund, L.P.; Carpenter Community BancFund—A, L.P.; Carpenter Community BancFund—CA, L.P.; SCJ, Inc.; and CCFW, Inc., all in Irvine, California; to acquire an additional 6 percent, for a total of 43.6 percent, of Manhattan Bancorp, and thereby indirectly acquire additional voting shares of Bank of Manhattan, N.A., both in El Segundo, California.

Comments on this application must be received by October 28, 2011.

Board of Governors of the Federal Reserve System, October 4, 2011.
Robert deV. Frierson,
Deputy Secretary of the Board.

[FR Doc. 2011-25985 Filed 10-6-11; 8:45 am]

BILLING CODE 6210-01-P